DEPARTMENT OF COMMERCE

National Oceanic and Atmospheric Administration

RIN 0648-XE705

International Whaling Commission; 66th Meeting; Nominations

AGENCY: National Marine Fisheries Service (NMFS), National Oceanic and Atmospheric Administration (NOAA), Commerce.

ACTION: Notice; request for nominations.

SUMMARY: This notice is a call for nominees for the U.S. Delegation to the October 2016 International Whaling Commission (IWC) meeting. The non-federal representative(s) selected as a result of this nomination process is (are) responsible for providing input and recommendations to the U.S. IWC Commissioner representing the positions of non-governmental organizations.

DATES: The IWC is holding its 66th meeting from October 20-28, 2016, at the Convention Center of the Grand Hotel Bernardin in Portorož, Slovenia. All written nominations for the U.S. Delegation to the IWC meeting must be received by August 26, 2016.

ADDRESSES: All nominations for the U.S. Delegation to the IWC meeting should be addressed to Mr. Ryan Wulff, Deputy U.S. Commissioner to the IWC, and sent to Jordan Carduner via email: jordan.carduner@noaa.gov; or via post: National Marine Fisheries Service, Office of International Affairs and Seafood Inspection Program, 1315 East-West Highway, SSMC3 Room 10651, Silver Spring, MD 20910.

FOR FURTHER INFORMATION CONTACT: Jordan Carduner at jordan.carduner@noaa.gov or 301-427-8401.

SUPPLEMENTARY INFORMATION: The Secretary of Commerce is responsible for discharging the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Department of the Interior, the Marine Mammal Commission, and by other agencies. The non-federal representative(s) selected as a result of this nomination process is (are) responsible for providing input and recommendations to the U.S. IWC Commissioner representing the positions of non-governmental organizations. Generally, only one non-governmental position is selected for the U.S. Delegation.

Dated: July 5, 2016.
John Henderschedt,
Director, Office of International Affairs and Seafood Inspection Program, National Marine Fisheries Service.

[FR Doc. 2016-16178 Filed 7-7-16; 8:45 am]

BILLING CODE 3510-22-P